DEPARTMENT OF THE INTERIOR

Bureau of Safety and Environmental Enforcement

[Docket ID BSEE-2013-0005; OMB Control Number 1014-0017: 134E1700D2 EEEE500000 ET1SF0000.DAQ000]

Information Collection Activities: Safety and Environmental Management Systems (SEMS); Proposed Collection; Comment Request

ACTION: 60-day Notice.

SUMMARY: To comply with the Paperwork Reduction Act of 1995 (PRA), Bureau of Safety and Environmental Enforcement (BSEE) is inviting comments on a collection of information that we will resubmit to the Office of Management and Budget (OMB) for review and approval. The resubmission of this information collection request (ICR) is necessary to include a form that we developed to clarify and facilitate submission of certain paperwork requirements in the regulations under subpart S, Safety and Environmental Management Systems (SEMS). The new form is BSEE-0130 and entails no additional information collection burden to that already approved by OMB for the SEMS regulations.

DATE: You must submit comments by October 11, 2013.

ADDRESSES: You may submit comments by either of the following methods listed below.

• Electronically: go to http://www.regulations.gov. In the Search box, enter BSEE-2013-0005 then click search. Follow the instructions to submit public comments and view all related materials. We will post all comments.

• Email cheryl.blundon@bsee.gov. Mail or hand-carry comments to the Department of the Interior; BSEE; Regulations and Standards Branch; Attention: Cheryl Blundon; 381 Elden Street, HE3313; Herndon, Virginia 20170-4817. Please reference ICR 1014-0017 in your comment and include your name and return address.

FOR FURTHER INFORMATION CONTACT: Cheryl Blundon, Regulations and Standards Branch at (703) 787-1607 to obtain a copy, at no cost, of the regulation and the form that requires the subject collection of information.

SUPPLEMENTARY INFORMATION:

Title: 30 CFR 250, subpart S, Safety and Environmental Management Systems (SEMS).

Forms: BSEE-0130 and BSEE-0131.

OMB Control Number: 1014-0017.

Abstract: The Outer Continental Shelf (OCS) Lands Act, as amended (43 U.S.C. 1331 et seq., and 43 U.S.C. 1801 et seq.), authorizes the Secretary of the Interior (Secretary) to prescribe rules and regulations necessary for the administration of the leasing provisions of that Act related to mineral resources on the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. These responsibilities are among those delegated to BSEE.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

Regulations governing Safety and Environmental Management Systems (SEMS) are covered in 30 CFR 250, subpart S. We require the operator (a lessee, the owner or holder of operating rights, or the designated operator) to integrate a comprehensive SEMS program into the management of their OCS operations, thereby providing for the prevention of waste and conservation of natural resources of the Outer Continental Shelf. Some, but not all of the requirements in a SEMS consists of Ultimate Work Authority (UWA) to address who is in charge of a mobile offshore drilling unit (MODU) and who has the final word during an emergency event. Self-audits are required to ensure that the operator maintains responsibility for the implementation of their SEMS. The operator must hire an Audit Service Provider (ASP) to conduct audits, thereby avoiding any potential conflicts of interest, and the ASP, in turn, must be accredited by a BSEE-approved accreditor. We hold the operator accountable for the overall safety of the offshore facility, including ensuring that all contractors and subcontractors have safety policies and procedures in place that support the implementation of the operator's SEMS program and align with the principles of managing safety set forth in API RP 75.

Regulations at 30 CFR 250, subpart S, implement these statutory requirements and we consider the information to be critical for us to monitor industry's operations record of safety and environmental management of the OCS. The Subpart S regulations hold the operator accountable for the overall safety of the offshore facility, including ensuring that all employees, contractors, and subcontractors have safety policies and procedures in place that support the implementation of the operator's SEMS program and align with the principles of managing safety. The SEMS program describes management commitment to safety and the environment, as well as policies and procedures to assure safety and environmental protection while conducting OCS operations (including those operations conducted by all personnel on the facility). The BSEE will use the information obtained by submittals and observed via SEMS audits to ensure that operations on the OCS are conducted safely, as they pertain to both human and environmental factors, and in accordance with BSEE regulations, as well as industry practices. The UWA and other recordkeeping will be reviewed diligently by BSEE during inspections/audits, etc., to ensure that industry is correctly implementing the documentation and that the requirements are being followed properly.

Subsequent to the approval of the information collection requirements in the final 30 CFR 250, Subpart S regulations, BSEE developed a new form that respondents must use to submit certain information collection requirements under § 250.1922. This form entails no additional burden as it only clarifies and facilitates the submission of the currently approved information collection requirements to which the form pertains. This resubmitted information collection request (ICR) is revised to only include the new Form BSEE-0130, SEMS Accreditation Body Application. No burden hours have been changed from the currently OMB approved collection. The information on BSEE-0130 consists of name, address, etc., accreditation information such as member of what accreditation forum, peer review info, and description of how you comply with the Subpart S regulatory requirements. We ask for what type of accreditation service they are providing, as well as any electronic accreditation information for public use. There is also a fraud statement and a list of documents that should be submitted with the application. We use the information obtained to determine suitability for approval as an accreditation body. The form is included at the end of this document for your comment and review.

Currently, form BSEE-0131, Performance Measures Data is submitted to BSEE. The information on BSEE-0131 includes company identification, number of company/contractor injuries and/or illnesses suffered, company/contractor hours worked, EPA National Pollutant Discharge Elimination System (NPDES) permit noncompliances, and oil spill volumes for spills less than 1 barrel. All pieces of information are reported annually as collected during 1 calendar year and the information broken out quarterly. The information is used to develop industry average incident rates that help to describe how well the offshore oil and gas industry is performing. Using the produced data allows BSEE to better focus our regulatory and research programs on areas where the performance measures indicate that operators are having difficulty meeting our expectations. The BSEE will be more effective in leveraging resources by redirecting research efforts, promoting appropriate regulatory initiatives, and shifting inspection program emphasis based on performance results.

The BSEE will protect proprietary information according to the Freedom of Information Act (5 U.S.C. 552) and its implementing regulations (43 CFR 2); 30 CFR 250.197, Data and information to be made available to the public or for limited inspection; and 30 CFR part 252, OCS Oil and Gas Information Program. No items of a sensitive nature are collected. Responses are required to obtain or retain a benefit and they are mandatory.

Frequency: On occasion.

Description of Respondents: Potential respondents comprise Federal oil, gas, or sulphur lessees and/or operators.

Estimated Reporting and Recordkeeping Hour Burden: The currently approved annual reporting burden for this collection is 651,728 hours and continues to remain the same in this request. The following chart details the individual components and respective hour burden estimates of this ICR. In calculating the burdens, we assumed that respondents perform certain requirements in the normal course of their activities. We consider these to be usual and customary and took that into account in estimating the burden.

Citation 30 CFR 250 subpart S | Reporting and recordkeeping requirement | Hour burden
1900-1933 | High Activity Operator: Have a SEMS program, and maintain all documentation and records pertaining to your SEMS program, according to API RP 75, ISO 17011 in their entirety, the COS-2-01, 03, and 04 documents as listed in § 250.198, and all the requirements as detailed in 30 CFR 250, Subpart S. Make your SEMS available to BSEE upon request | 22,364.
1900-1933 | Moderate Activity Operator: Have a SEMS program, and maintain all documentation and records pertaining to your SEMS program, according to API RP 75, the three COS documents in their entirety, and all the requirements as detailed in 30 CFR 250, Subpart S. Make your SEMS available to BSEE upon request | 4,921.
1900-1933 | Low Activity Operator: Have a SEMS program, and maintain all documentation and records pertaining to your SEMS program, according to API RP 75, the three COS documents in their entirety, and all the requirements as detailed in 30 CFR 250, Subpart S. Make your SEMS available to BSEE upon request | 1,027.
1900(b); 1928(d), (e); 1929 | Submit Form BSEE-0131. Maintain a contractor employee injury/illness log in the operation area, retain for 2 years, and make available to BSEE upon request (this requirement is included in the form burden). Inform contractors of hazards | 10.
1911(b) | Immediate supervisor must conduct a JSA, sign the JSA, and ensure all personnel participating sign the JSA. The individual designated as being in charge of facility approves and signs all JSAs before job starts. NOTE: If activity is repeated, the 1stsigned JSA is allowed | 11 mins.*
1920(a), (b); 1921 | ASP audit for High Activity Operator | $60,000 audit.
| ASP audit for Moderate Activity Operator | $30,000 audit.
| ASP audit for Low Activity Operator | $12,000 audit. |  | NOTE: An audit once every 3 years.
1920 | Notify BSEE with audit schedule 30 days prior to conducting your audit | 1.
1920(c); 1925 | Submit to BSEE after completed audit, an audit report of findings and conclusions, including deficiencies and required supporting information/documentation | 3.
1920(d); 1925(b) | Submit/resubmit a copy of your CAP that will address deficiencies identified in audit | 4.
1922—Form BSEE-0130 | Organization requests approval for AB; submits documentation for assessing, approving, maintaining, and withdrawing accreditation of ASP. | 16.
1922 | Make available to BSEE upon request, conflict of interest procedures | 15 mins.
1924(b) | Make available to BSEE upon request, evaluation documentation and supporting information relating to your SEMS | 2.
1924(c) | Explain and demonstrate your SEMS during site visit if required; provide evidence supporting your SEMS implementation | 8.
1925(a) | Pay for all costs associated with BSEE directed ASP audit approximately 10 percent per operator per category: 1 required audit for high operator ($60,000 per audit × 1 audit = $60,000); 4 required audits for moderate operator ($30,000 per audit × 4 audits = $120,000; and 8 required audits for low operator ($12,000 per audit per 8 audits = $96,000) = 13 required audits per year | 13 BSEE directed ASP audits—for a total of $276,000.
1928 | (1) Document and keep all SEMS audits for 6 years (at least 2 full audit cycles) at an onshore location. (2) JSAs must have documented results in writing and kept onsite for 30 days or until release of the MODU; retain records for 2 years. (3) All MOC records (API RP Sec 4) must be documented, dated, and retained for 2 years. (4) SWA documentation must be kept onsite for 30 days; retain records for 2 years. (5) Documentation of employee participation must be retained for 2 years. (6) All documentation included in this requirement must be made available to BSEE upon request. | 5. 2 hrs/mo × 12 mos/yr = 24 hrs. 30 mins.
1930(c) | Document decision to resume SWA activities | 8.
1933(a) | Personnel reports unsafe practices and/or health violations. Burden covered under 30 CFR 250, Subpart A, 1014-0022. | 0.
1933(c) | Post notice where personnel can view their rights for reporting unsafe practices | 15 mins.
* We calculated operators conducting six JSAs a day (3 JSAs for each 12 hour shift). Some contractors may perform none for a particular day, whereas others may conduct more than six per day. This estimate is an average.

Estimated reporting and recordkeeping non-hour cost burden:

The currently OMB approved non-hour cost burdens total $1,250,000 and for this request the burden remains the same. We have identified four non-hour cost burdens:

§ 250.1925(a)—Pay for all costs associated with a BSEE directed audit due to deficiencies,

§ 250.1920(a)—ASP audits for High, Moderate, and Low Activity Operator (3 separate fees).

We have not identified any other non-hour cost burdens.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

The form BSEE-0130 is as follows:

U.S. Department of the Interior

Bureau of Safety and Environmental Enforcement

OMB Control Number 1014-xxxx

OMB Approved Expiration Date: xx/xx/xxxx

SEMS Accreditation Body Application

Under 30 CFR 250.1922, organizations requesting approval as an accreditation body must submit this application to BSEE that describes the process for assessing an audit service provider (ASP) for accreditation and approving, maintaining, and withdrawing the accreditation of an ASP. Requests for approval must be sent to DOI/BSEE, ATTN: Chief, Office of Offshore Regulatory Programs, 381 Elden Street, HE-3314, Herndon, VA 20170.

Name

Address

City/State/Zip

E-Mail

Phone

Accreditation Information

Member of International Accreditation Forum (IAF)? Yes/No

(If Yes, attach associated documentation)

Most Recent Peer Review?

(Attach associated documentation)

Describe how your accreditation process meets the requirements of section 6, requirement for accreditation of audit services providers performing SEMS audits and Certification of Deepwater Operations (COS-0204, or its equivalent, attach any documents necessary to support your case).

What is the scope of accreditation service that you provide?

(Attach associated documentation)

SEMS Audits

ISO 140000

API Spec Q1

Other (specify)

BSEE Form BSEE-0130 (Mo/Year)

Page 1 of 2

Do you have a Web site that is set up to load and display accreditation applicant names, final dispositions, expiration dates, and scope of accreditation? Yes/No If yes, provide URL _______

CERTIFICATION

I certify that the information submitted on and with this form is complete and accurate to the best of my knowledge. I understand that making a false statement may subject me to criminal penalties under 18 U.S.C. 1001.

Name and Title:

Date:

Submission

Include the following documents (as applicable) with your application:

1 Statement of Qualifications

2 State Certificate of Incorporation, Partnership or other legal entity

3 Charter or Articles of Incorporation

4 By-Laws

5 List of Board of Directors, Trustees, and/or Key Personnel

6 Most recent financial audit report

7 Current financial statements, Profit and Loss, or Statement of Activities

8 Description of Quality Management System

9 Description of process for determining whether to accredit an applicant

10 Any peer review reports or audits of compliance with ISO 9000, ISO 17011, or similar standards

11 Any other relevant certificates or business registrations

12 Official policies regarding: Impartiality, Confidentiality and Privacy, Conflict of Interest, and Records Management

13 Certificates of General Liability, Directors and Officers, Malpractice, or other insurance and bonding

14 Description of or official policy and procedures for handling complaints

PAPERWORK REDUCTION ACT STATEMENT: The Paperwork Reduction Act of 1995 (44 U.S.C. 3501 et seq.) requires us to inform you that this information is collected to implement the various safety and environmental provisions of the OCS Lands Act. We use the information to determine suitability for approval as an accreditation body. Responses are to obtain and/or retain a benefit and mandatory (43 U.S.C. 1334). Proprietary data are covered under 30 CFR 250.197. An agency may not conduct or sponsor, and a person is not required to respond to, a collection of information unless it displays a currently valid OMB Control Number. Public reporting burden of this form is estimated to average 16 hours per response, including the time for reviewing instructions, gathering and maintaining data, and completing and reviewing the form. Direct comments regarding the burden estimate or any other aspect of this form to the Information Collection Clearance Officer, Bureau of Safety and Environmental Enforcement, 381 Elden Street, Herndon, VA 20170.

BSEE Form BSEE-0130 (Mo/Year)

Page 2 of 2

Public Comment Procedures: Before including your address, phone number, email address, or other personal identifying information in your comment, you should be aware that your entire comment—including your personal identifying information—may be made publicly available at any time. While you can ask us in your comment to withhold your personal identifying information from public review, we cannot guarantee that we will be able to do so.

Dated: August 6, 2013.
Robert W. Middleton,
Deputy Chief, Office of Offshore Regulatory Programs.

[FR Doc. 2013-19416 Filed 8-9-13; 8:45 am]

BILLING CODE 4310-VH-P